ENVIRONMENTAL PROTECTION AGENCY

[EPA-HQ-OPPT-2010-0572; FRL-10012-81-OMS]

Information Collection Request Submitted to OMB for Review and Approval; Comment Request; Chemical-Specific Rules Under the Toxic Substances Control Act Section 8(a), Certain Nanoscale Materials (Renewal)

AGENCY: Environmental Protection Agency (EPA).

ACTION: Notice.

SUMMARY: The Environmental Protection Agency (EPA) has submitted an information collection request (ICR), Chemical-Specific Rules under the Toxic Substances Control Act Section 8(a); Certain Nanoscale Materials to the Office of Management and Budget (OMB) for review and approval in accordance with the Paperwork Reduction Act. This is a proposed extension of the ICR, which is currently approved through August 31, 2020. Public comments were previously requested via the Federal Register on January 28, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before September 28, 2020.

ADDRESSES: Submit your comments to EPA, referencing Docket ID Number EPA-HQ-OPPT-2010-0572 online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: For technical information contact: Jim Alwood, Chemical Control Division, Office of Pollution Prevention and Toxics, 7405M, Environmental Protection Agency, 1200 Pennsylvania Ave. NW, Washington, DC 20460; telephone number: (202) 564-8974; email address: alwood.jim@epa.gov. For general information contact: The TSCA-Hotline, ABVI-Goodwill, 422 South Clinton Ave., Rochester, NY 14620; telephone number: (202) 554-1404; email address: TSCA-Hotline@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This information collection request (ICR) covers reporting and recordkeeping requirements for persons who manufacture or process chemical substances as nanoscale materials. Under the Toxic Substances Control Act (TSCA) section 8(a), EPA requires reporting and recordkeeping for certain chemical substances as nanoscale materials. EPA requires that persons who manufacture or process these nanoscale materials notify EPA of certain information which includes production volume, methods of manufacture and processing, exposure and release information, and available health and safety information. The reporting of these activities will provide EPA with an opportunity to evaluate the information and consider appropriate action under TSCA to reduce any risk to human health or the environment. The information will also inform EPA's assessments of new chemical nanoscale materials submitted to EPA under TSCA section 5.

EPA's Office of Pollution Prevention and Toxics (OPPT), other EPA Offices and/or other Federal agencies will generally be the primary groups for which information will be collected. However, to the extent that reported information is not considered to be confidential business information (CBI), environmental groups, environmental justice advocates, state and local government entities and other members of the public will have access to this information for their own use.

Form Numbers: 9600-07.

Respondents/affected Entities: Entities potentially affected by this ICR are nanomaterial manufacturers and nanomaterial processors.

Respondent's obligation to respond: Mandatory (40 CFR 704).

Estimated number of respondents: 285 per year.

Frequency of response: On occasion.

Total estimated burden: 40,089 hours (per year). Burden is defined at 5 CFR 1320.3(b).

Total estimated cost: $3,067,546 (per year), includes $0 annualized capital or operation and maintenance costs.

Changes in the estimates: There is a decrease of 106,766 hours in the total estimated respondent burden compared with the ICR currently approved by OMB. This decrease reflects EPA's expectation of decreased submissions. In the previous ICR period, the rule required an initial one-time reporting on current nanomaterials, while the reporting covered in this period only requires the reporting of new nanomaterials. Furthermore, burden estimates assume that the same manufacturers will report each year and, therefore, will have already undertaken rule familiarization in the previous ICR period. This change is an adjustment to the estimates.

Courtney Kerwin,
Director, Regulatory Support Division.

[FR Doc. 2020-18887 Filed 8-26-20; 8:45 am]

BILLING CODE 6560-50-P